DEPARTMENT OF ENERGY

Federal Energy Regulatory Commission

Sunshine Act Meeting Notice

July 9, 2009.

The following notice of meeting is published pursuant to section 3(a) of the government in the Sunshine Act (Pub. L. No. 94-409), 5 U.S.C. 552b:

AGENCY HOLDING MEETING: Federal Energy Regulatory Commission.

DATE AND TIME: July 16, 2009, 10 a.m.

PLACE: Room 2C, 888 First Street, NE., Washington, DC 20426.

STATUS: Open.

MATTERS TO BE CONSIDERED: Agenda.

Note: Items listed on the agenda may be deleted without further notice.

CONTACT PERSON FOR MORE INFORMATION: Kimberly D. Bose, Secretary. Telephone: (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

950th—Meeting

Regular Meeting
[July 16, 2009, 10 a.m.]
Item No. | Docket No. | Company
ADMINISTRATIVE
A-1 | AD02-1-000 | Agency Administrative Matters.
A-2 | AD02-7-000 | Customer Matters, Reliability, Security and Market Operations.
ELECTRIC
E-1 | RM07-19-001 | Wholesale Competition in Regions with Organized Electric Markets.
E-2 | ER09-1246-000 | Midwest Independent Transmission System Operator, Inc.
ER09-1248-000 | MidAmerican Energy Company and Midwest Independent Transmission System Operator, Inc
ER09-1253-000 | Midwest Independent Transmission System Operator, Inc
E-3 | PL09-4-000 | Smart Grid Policy.
E-4 | OMITTED
E-5 | OMITTED
E-6 | OMITTED
E-7 | RM08-7-002 | Modification of Interchange and Transmission Loading Relief Reliability Standards; and Electric Reliability Organization Interpretation of Specific Requirements of Four Reliability Standards.
E-8 | OMITTED
E-9 | OMITTED
E-10 | OMITTED
E-11 | RR08-6-002 | North American Electric Reliability Corporation.
| RR07-14-003 |
E-12 | OA08-35-001 | Xcel Energy Services, Inc.—Public Service Company of Colorado.
| OA08-35-002 |
| OA08-35-003 |
| ER09-72-000 |
| ER09-72-001 |
E-13 | OA07-110-000 | NorthWestern Corporation.
| OA07-110-001 |
| OA07-110-002 |
E-14 | OA09-11-000 | Black Hills Power, Inc.
E-15 | OA08-30-001 | El Paso Electric Company.
| OA08-33-001 | Arizona Public Service Company.
| OA08-34-001 | Public Service Company of New Mexico.
| OA08-38-002 | Sierra Pacific Resources Operating Companies.
| OA08-47-001 | Tucson Electric Power Company.
| OA08-48-001 | UNS Electric, Inc.
E-16 | OA08-23-001 | Idaho Power Company.
| OA08-55-004 |
| OA08-28-002 | Deseret Generation & Transmission Co-operative, Inc.
| OA08-54-004 |
| OA08-31-002 | NorthWestern Corporation.
| OA08-56-004 |
| OA08-40-001 | PacifiCorp.
| OA08-57-004 |
| OA08-45-002 | Portland General Electric Company.
| OA08-118-001 |
| OA08-99-002 | Black Hills Power, Inc.
E-17 | NJ08-5-001 | United States Department of Energy-Bonneville Power Administration.
| OA08-25-001 | Avista Corporation.
| OA98-26-001 | Puget Sound Energy, Inc.
E-18 | ER94-1188-045 | LG&E Energy Marketing Inc.
| ER99-1623-014 | Louisville Gas & Electric Company.
| R98-4540-014 | Kentucky Utilities Company.
| ER98-1279-016 | Western Kentucky Energy Corporation.
E-19 | ER09-1252-000 | Midwest Independent Transmission System Operator, Inc. and MidAmerican Energy Company.
E-20 | ER99-2311-010 | Carolina Power & Light Company.
| ER97-2846-013 | Florida Power Corporation.
E-21 | ER99-2311-010 | Carolina Power & Light Company.
| ER97-2846-013 | Florida Power Corporation.
| ER07-188-005 | Duke Energy Carolinas, LLC.
| ER91-569-043 | Entergy Services, Inc.
| ER02-862-011 | Entergy Power Ventures, LP.
| ER01-666-011 | EWO Marketing, LP.
| ER91-569-043 | Entergy Power, Inc.
| ER94-1188-045 | LG&E Energy Marketing Inc.
| ER99-1623-014 | Louisville Gas & Electric Company.
| ER98-4540-014 | Kentucky Utilities Company.
| ER98-1279-016 | Western Kentucky Energy Corporation.
| ER96-1085-013 | South Carolina Electric & Gas Company.
| ER96-780-020 | Southern Company Services, Inc.
|  | Alabama Power Company.
|  | Georgia Power Company.
|  | Gulf Power Company.
|  | Mississippi Power Company.
|  | Southern Power Company.
| ER99-2342-012 | Tampa Electric Company.
E-22 | ER91-569-038 | Entergy Services, Inc.
| ER91-569-039 |
| ER91-569-040 |
| ER91-569-041 |
| ER91-569-042 |
| ER91-569-044 |
| ER91-569-043 | Entergy Power, Inc.
| ER02-862-010 | Entergy Power Ventures, LP.
| ER02-862-011 |
| ER01-666-010 | EWO Marketing, LP.
| ER01-666-011 |
| ER01-1804-008 | Warren Power, LLC.
E-23 | ER99-2342-012 | Tampa Electric Company.
E-24 | ER07-188-005 | Duke Energy Carolinas, LLC.
E-25 | ER96-780-014 | Southern Company Services, Inc.
| ER96-780-015 | Alabama Power Company.
| ER96-780-016 | Georgia Power Company.
| ER96-780-018 | Gulf Power Company.
| ER96-780-020 | Mississippi Power Company.
| ER96-780-021 | Southern Power Company.
| ER01-1633-004 | Southern Company-Florida, LLC.
| ER01-1633-005
| ER01-1633-006
| ER01-1633-008
| ER00-3240-007 | Oleander Power Project, LP.
| ER00-3240-008
| ER00-3240-009
| ER00-3240-011
| ER03-1383-007 | DeSoto County Generating Company, LLC.
| ER03-1383-008
| ER03-1383-009
| ER03-1383-011
E-26 | ER96-719-025 | MidAmerican Energy Company.
| ER97-2801-026 | PacifiCorp.
| ER99-2156-018 | Cordova Energy Company LLC.
E-27 | ER96-1085-013 | South Carolina Electric & Gas Company.
E-28 | EF06-2011-000 | United States Department of Energy-Bonneville Power Administration.
| EF06-2011-001
| EF06-2011-002
E-29 | EL08-58-000 | Pepco Energy Services, Inc. v. PJM Interconnection, LLC.
E-30 | ER08-1540-001 | Virginia Electric and Power Company.
E-31 | OMITTED
E-32 | EL03-54-005 | Cities of Anaheim, Azusa, Banning, Colton, and Riverside, California and City of Vernon, California v. California Independent System Operator Corporation.
E-33 | EL09-51-000 | Boralex Ashland LP v. ISO New England Inc.
E-34 | ER08-1055-002 | Midwest Independent Transmission System Operator, Inc.
| ER08-1055-003
GAS
G-1 | RM09-2-000 | Contract Reporting Requirements of Intrastate Natural Gas Companies.
G-2 | RM08-2-000 | Pipeline Posting Requirements Under Section 23 of the Natural Gas Act.
G-3 | RM96-1-030 | Standards for Business Practices for Interstate Natural Gas Pipelines.
G-4 | RP09-194-000 | Tennessee Gas Pipeline Company.
G-5 | RP09-447-001 | Monroe Gas Storage Company, LLC.
| RP09-447-002 |
HYDRO
H-1 | P-2100-165 | County of Butte, California v. California Department of Water Resources.
| EL09-55-000 |
H-2 | P-13053-001 | Green Wave Energy Solutions, LLC.
H-3 | RM09-6-001 | Update of the Federal Energy Regulation Commission's Fees Schedule for Annual Charges for the Use of Government Lands.
H-4 | P-2299-065 | Turlock Irrigation District and Modesto Irrigation District.
| P-2299-053 |
CERTIFICATES
C-1 | OMITTED
C-2 | CP09-58-000 | Rockies Express Pipeline LLC.
C-3 | CP09-60-000 | Dominion Cove Point LNG, LP.
| CP09-60-001 |

Kimberly D. Bose,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E9-16731 Filed 7-13-09; 8:45 am]

BILLING CODE P